DEPARTMENT OF COMMERCE

International Trade Administration

[A-351-605]

Frozen Concentrated Orange Juice From Brazil; Final Results and Partial Rescission of Antidumping Duty Administrative Review

AGENCY: Import Administration, International Trade Administration, Department of Commerce.

ACTION: Notice of final results of antidumping duty administrative review.

SUMMARY: On April 17, 2002, the Department of Commerce published the preliminary results of administrative review of the antidumping duty order on frozen concentrated orange juice from Brazil (67 FR 18859). This review covers four manufacturers/exporters of the subject merchandise to the United States. This review covers the period May 1, 2000, through April 30, 2001. We have made no changes in the margin calculations. Therefore, the final results do not differ from the preliminary results.

We have determined that no sales have been made below the normal value by Branco Peres Citrus S.A. in this review. In addition, we have determined to rescind the review with respect to Citrovita Agro-Industrial Ltda., because the request for review was withdrawn, and with respect to CTM Citrus S.A., and Sucorrico S.A., because they had no shipments of subject merchandise to the United States during the period of review. The final weighted-average dumping margin for the reviewed firm is listed below in the section entitled “Final Results of Review.”

EFFECTIVE DATE: June 14, 2002.

FOR FURTHER INFORMATION CONTACT: Irina Itkin or Elizabeth Eastwood, Office of AD/CVD Enforcement, Office 2, Import Administration, International Trade Administration, U.S. Department of Commerce, 14th Street and Constitution Avenue, NW., Washington, DC 20230; telephone (202) 482-0656 or (202) 482-3874, respectively.

SUPPLEMENTARY INFORMATION:

Applicable Statute and Regulations

Unless otherwise indicated, all citations to the Tariff Act of 1930, as amended (the Act), are references to the provisions effective January 1, 1995, the effective date of the amendments made to the Act by the Uruguay Round Agreements Act (URAA). In addition, unless otherwise indicated, all citations are to the Department of Commerce's (“the Department's”) regulations codified at 19 CFR part 351 (2001).

Background

This review covers four manufacturers/exporters (i.e., Branco Peres Citrus S.A. (Branco Peres); Citrovita Agro Industrial Ltda. and its affiliated parties Cambuhy MC Industrial Ltda. and Cambuhy Citrus Comercial e Exportadora (collectively, “Citrovita”); CTM Citrus S.A. (CTM); and Sucorrico S.A. (Sucorrico)).

On April 17, 2002, the Department published in the Federal Register the preliminary results of administrative review of the antidumping duty order on frozen concentrated orange juice (FCOJ) from Brazil. See Frozen Concentrated Orange Juice from Brazil; Preliminary Results and Partial Recission of Antidumping Duty Administrative Review, 67 FR 18859 (Apr. 17, 2002) (Preliminary Results).

Sucorrico claimed that it did not have shipments of subject merchandise to the United States. Because we were able to confirm this with the Customs Service, and because we were also able to confirm that CTM also had no shipments, in accordance with 19 CFR 351.213(d)(3) and consistent with our practice, we are rescinding our review for CTM and Sucorrico. In January 2002, the petitioners withdrew their request for review for Citrovita. Consequently, we are also rescinding our review for Citrovita. For further discussion, see the “Partial Rescission of Review” section of this notice, below.

We invited parties to comment on our preliminary results of review. On May 20, 2002, Branco Peres submitted a case brief. However, Branco Peres withdrew this submission on May 28, 2002, and, thus, we have not considered it for the final results. The Department has conducted this administrative review in accordance with section 751 of the Act.

Scope of the Order

The merchandise covered by this order is frozen concentrated orange juice from Brazil. The merchandise is currently classifiable under item 2009.11.00 of the Harmonized Tariff Schedule of the United States (HTSUS). The HTSUS item number is provided for convenience and for customs purposes. The written description of the scope of this proceeding is dispositive.

Period of Review

The period of review (POR) is May 1, 2000, through April 30, 2001.

Partial Rescission of Review

As noted above, Sucorrico informed the Department that it had no shipments of subject merchandise to the United States during the POR. We have confirmed with the Customs Service that neither Sucorrico nor CTM had shipments of subject merchandise during the POR. Therefore, in accordance with 19 CFR 351.213(d)(3) and consistent with the Department's practice, we are rescinding our review with respect to CTM and Sucorrico. (See e.g., Certain Welded Carbon Steel Pipe and Tube from Turkey; Final Results and Partial Rescission of Antidumping Administrative Review, 63 FR 35190, 35191 (June 29, 1998); and Certain Fresh Cut Flowers from Colombia; Final Results and Partial Rescission of Antidumping Duty Administrative Review, 62 FR 53287, 53288 (Oct. 14, 1997).)

In addition, on January 9, 2002, the petitioners withdrew their request for an administrative review of Citrovita. Although the petitioners asked to withdraw their review request after the 90-day time limit specified in 19 CFR 351.213(d)(1), the review for this company had not yet progressed beyond a point where it would have been unreasonable to allow the petitioners to withdraw their request for review. Therefore, in accordance with 19 CFR 351.213(d)(1) and consistent with our practice, we are also rescinding our review with respect to Citrovita.

Cost of Production

As discussed in the Preliminary Results, we conducted an investigation to determine whether Branco Peres made home market sales of the foreign like product during the POR at prices below its cost of production (COP) within the meaning of section 773(b)(1) of the Act. We calculated the COP for these final results, and performed the cost test, following the same methodology as in the Preliminary Results.

Based on this analysis, we found that 100 percent of Branco Peres' home market sales were made at prices above the COP. Therefore, we did not disregard any home market sales made by Branco Peres during the POR. For further discussion, see the Preliminary Results, 67 FR at 18859.

Changes Since the Preliminary Results

We have made no changes to the margin calculation since the Preliminary Results.

Final Results of Review

We determine that the following weighted-average margin percentage exists for the period May 1, 2000, through April 30, 2001:

Manufacturer/exporter | Percent margin
Branco Peres | 0.00

The Department shall determine, and the Customs Service shall assess, antidumping duties on all appropriate entries. Accordingly, we have calculated importer-specific duty assessment rates for the merchandise in question by aggregating the dumping margins calculated for all U.S. sales to each importer and dividing this amount by the total quantity of those sales. The assessment rate will be assessed uniformly on all entries of that particular importer made during the POR.

Cash Deposit Requirements

The following deposit requirements will be effective upon publication of this notice of final results of administrative review for all shipments of FCOJ from Brazil entered, or withdrawn from warehouse, for consumption on or after the date of publication, as provided by section 751(a)(1) of the Act: (1) The cash deposit rate for the reviewed company will be the rate established in the final results of this review; (2) for previously investigated companies not listed above, the cash deposit rate will continue to be the company-specific rate published for the most recent period; (3) if the exporter is not a firm covered in this review, or the less-than-fair-value (LTFV) investigation, but the manufacturer is, the cash deposit rate will be the rate established for the most recent period for the manufacturer of the merchandise; and (4) the cash deposit rate for all other manufacturers or exporters will continue to be 1.96 percent, the “all others” rate established in the LTFV investigation.

These deposit requirements, when imposed, shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

We are issuing and publishing this determination and notice in accordance with sections section 751(a)(1) and 777(i) of the Act.

Dated: June 7, 2002.
Faryar Shirzad,
Assistant Secretary For Import Administration.

[FR Doc. 02-15100 Filed 6-13-02; 8:45 am]

BILLING CODE 3510-DS-S